DEPARTMENT OF THE TREASURY

Submission for OMB Review; Comment Request

July 25, 2012.

The Department of the Treasury will submit the following information collection request to the Office of Management and Budget (OMB) for review and clearance in accordance with the Paperwork Reduction Act of 1995, Public Law 104-13, on or after the date of publication of this notice.

DATES: Comments should be received on or before August 29, 2012 to be assured of consideration.

ADDRESSES: Send comments regarding the burden estimate, or any other aspect of the information collection, including suggestion for reducing the burden to the (1) Office of Information and Regulatory Affairs, Office of Management and Budget, Attention: Desk Officer for Treasury, New Executive Office Building, Room 10235, Washington, DC 20503, or email at OIRA_Submission@OMB.EOP.GOV and the (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Financial Management Service (FMS)

OMB Number: 1510-0037.

Type of Review: Extension without change of a currently approved collection.

Title: Voucher for Payment of Awards.

Form: TFS 5135.

Abstract: Awards certified to Treasury are paid annually as funds are received from foreign governments. Vouchers are mailed to award-holders showing payments due. Award-holders sign vouchers certifying that he/she is entitled to payment.

Affected Public: Individuals or Households.

Estimated Total Burden Hours: 700.

OMB Number: 1510-0043.

Type of Review: Revision of a currently approved collection.

Title: Notice of Reclamation and Debit Request for Recurring Benefit Payments.

Form: FMS 133, 135.

Abstract: A program agency authorizes Treasury to recover payments that have been issued after the death of the beneficiary. FMS Form 133 is used to notify the financial institution. If the financial institution does not respond to the 133, a debit request (Form 135) is sent to the Federal Reserve Bank.

Affected Public: Private Sector; Businesses or other for-profits.

Estimated Total Burden Hours: 29,750.

OMB Number: 1510-0045.

Type of Review: Revision of a currently approved collection.

Title: Trace Request for EFT Payments.

Form: FMS 150-1, 150-2.

Abstract: Used to notify the financial institutions that a beneficiary has claimed non-receipt of credit for a payment. The form is designed to help the financial institution locate any problem and to keep the beneficiary informed of any action taken.

Affected Public: Private Sector; Businesses or other for-profits.

Estimated Total Burden Hours: 27,163.

Dawn D. Wolfgang,
Treasury PRA Clearance Officer.

[FR Doc. 2012-18462 Filed 7-27-12; 8:45 am]

BILLING CODE 4810-35-P